DEPARTMENT OF THE INTERIOR

Bureau of Land Management

43 CFR Parts 3100, 3160, and 3170

[15X.LLWO300000.L13100000.NB0000]

RIN 1004-AE14

Waste Prevention, Production Subject to Royalties, and Resource Conservation

AGENCY: Bureau of Land Management, Interior.

ACTION: Proposed rule; extension of public comment period.

SUMMARY: On February 8, 2016, the Bureau of Land Management (BLM) published in the Federal Register a proposed rule that would reduce waste of natural gas from venting, flaring, and leaks during oil and natural gas production activities on onshore Federal and Indian leases. The proposed rule would also clarify when produced gas lost through venting, flaring, or leaks is subject to royalties, and when oil and gas production used on site would be royalty-free. The proposed rule would replace existing provisions related to venting, flaring, and royalty-free use of gas contained in the 1980 Notice to Lessees and Operators of Onshore Federal and Indian Oil and Gas Leases, Royalty or Compensation for Oil and Gas Lost (NTL-4A), which is over 3 decades old. Today's Federal Register Notice extends the public comment period for 14 days beyond the initial comment period deadline.

DATES: The comment period for the proposed rule published on February 8, 2016 (81 FR 6616) is extended. Send your comments on this proposed rule to the BLM on or before April 22, 2016. The BLM need not consider, or include in the administrative record for the final rule, comments that the BLM receives after the close of the comment period or comments delivered to an address other than those listed below (see ADDRESSES).

ADDRESSES: Mail: U.S. Department of the Interior, Director (630), Bureau of Land Management, Mail Stop 2134 LM, 1849 C St. NW., Washington, DC 20240, Attention: 1004-AE14. Personal or messenger delivery: Bureau of Land Management, 20 M Street SE., Room 2134 LM, Attention: Regulatory Affairs, Washington, DC 20003. Federal eRulemaking Portal: http://www.regulations.gov. Follow the instructions at this Web site.

FOR FURTHER INFORMATION CONTACT: Eric Jones at the BLM Moab Field Office, 82 East Dogwood Ave., Moab, UT 84532, or by telephone at 435-259-2117; or Timothy Spisak at the BLM Washington Office, 20 M Street SE., Room 2134LM, Washington, DC 20003, or by telephone at 202-912-7311. For questions relating to regulatory process issues, please contact Faith Bremner, BLM Washington Office, at 202-912-7441. Persons who use a telecommunications device for the deaf (TDD) may call the Federal Information Relay Service (FIRS) at 1-800-877-8339 to contact the above individuals during normal business hours. FIRS is available 24 hours a day, 7 days a week to leave a message or question with the above individuals. You will receive a reply during normal business hours.

SUPPLEMENTARY INFORMATION:

Public Comment Procedures

If you wish to comment, you may submit your comments by any one of the methods listed in the ADDRESSES section above. Please make your comments as specific as possible by confining them to issues directly related to the content of the proposed rule, and explain the basis for your comments. The comments and recommendations that will be most useful and likely to influence agency decisions are:

1. Those supported by quantitative information or studies; and

2. Those that include citations to, and analyses of, the applicable laws and regulations.

The BLM is not obligated to consider or include in the Administrative Record for the rule comments received after the close of the comment period (see DATES) or comments delivered to an address other than those listed above (see ADDRESSES).

Comments, including names and street addresses of respondents, will be available for public review at the address listed under ADDRESSES during regular hours (7:45 a.m. to 4:15 p.m.), Monday through Friday, except holidays.

Before including your address, telephone number, email address, or other personal identifying information in your comment, be advised that your entire comment—including your personal identifying information—may be made publicly available at any time. While you can ask in your comment to withhold from public review your personal identifying information, we cannot guarantee that we will be able to do so.

Background

The proposed rule was published on February 8, 2016 (81 FR 6616), with a 60-day comment period closing on April 8, 2016. Since publication, the BLM has received requests to extend the comment period on the proposed rule, as well as requests not to extend the comment period. Commenters requesting an extension cited the technical nature and complexity of the proposed rule; its potential interaction with the BLM's proposals to update and replace oil and gas production measurement rules currently found in Onshore Orders 3, 4, and 5; and the Environmental Protection Agency's proposed rule to establish standards for control of emissions of methane and volatile organic compounds (VOCs) from certain oil and gas production activities, which would be codified as 40 CFR part 60 subpart OOOOa. Comments opposing an extension cited extensive pre-proposal activities to gather public input; the length of time already provided for public comments; what the commenters characterize as an urgent need to finalize updated rules to address ongoing losses of natural gas and royalty revenues; and the environmental impacts of venting and flaring of methane from oil and gas operations on Federal and Indian lands.

After considering these requests, the BLM has determined that it is appropriate to grant the requests to extend the comment period for a limited time. The BLM is hereby extending the comment period on the proposed rule for 14 days. The closing date of the extended comment period is April 22, 2016.

Janice M. Schneider,
Assistant Secretary, Land and Minerals Management.

[FR Doc. 2016-07646 Filed 4-1-16; 8:45 am]

BILLING CODE 4310-84-P